SUSQUEHANNA RIVER BASIN COMMISSION

Actions Taken at March 21, 2013, Meeting

AGENCY: Susquehanna River Basin Commission.

ACTION: Notice.

SUMMARY: As part of its regular business meeting held on March 21, 2013, in Harrisburg, Pennsylvania, the Commission took the following actions: (1) Approved, denied, or tabled the applications of certain water resources projects; (2) rescinded approvals for three projects and tabled a rescission for one project; (3) authorized the Executive Director to modify or extend timelines established by docket conditions, where warranted and with prudent administrative discretion; and (4) took additional actions, as set forth in the SUPPLEMENTARY INFORMATION below.

DATES: March 21, 2013.

ADDRESSES: Susquehanna River Basin Commission, 1721 N. Front Street, Harrisburg, PA 17102-2391.

FOR FURTHER INFORMATION CONTACT: Richard A. Cairo, General Counsel, telephone: (717) 238-0423, ext. 306; fax: (717) 238-2436; email: rcairo@srbc.net. Regular mail inquiries may be sent to the above address. See also Commission Web site at www.srbc.net.

SUPPLEMENTARY INFORMATION: In addition to the actions taken on projects identified in the summary above and the listings below, the following items were also presented or acted upon at the business meeting: (1) Presented the Commission's Maurice K. Goddard Award for Excellence by a Water Management Professional to Mr. Jim Brozena, recently retired Executive Director of the Luzerne County Flood Protection Authority in Wilkes-Barre, Pa.; (2) heard a presentation from SRBC staff member Ben Pratt on the development of flood inundation mapping for the City of Harrisburg and surrounding communities; (3) revised the FY-2014 budget for the period July 1, 2013, to June 20, 2014; (4) approved an investment policy statement for the Commission's Retiree Benefit Trust Account; (5) ratified a joint funding agreement relating to stream gaging, and an amendment to the Commission's EPA Section 106 Clean Water Act grant; (6) authorized final execution of a Feasibility Cost Sharing Agreement (FCSA) for Phase II of the Susquehanna River Basin Ecological Flow Management Study; and (7) authorized the Executive Director to execute a Stipulation of Settlement and Withdrawal of Appeal regarding the withdrawal of an administrative appeal by Anadarko E&P Company LP.

Rescission of Project Approvals

The Commission rescinded approvals for the following projects:

1. Project Sponsor and Facility: Clark Trucking, LLC Northeast Division (Lycoming Creek), Lewis Township, Lycoming County, Pa. (Docket No. 20111207).

2. Project Sponsor and Facility: Southwestern Energy Production Company (Tuscarora Creek), Tuscarora Township, Bradford County, Pa. (Docket No. 20110313).

3. Project Sponsor and Facility: EQT Production Company (Frano Freshwater Impoundment), Washington Township, Jefferson County, Pa. (Docket No. 20110913).

Rescission of Project Approval Tabled

The Commission tabled a rescission for the following project:

1. Project Sponsor: AES Westover, LLC. Project Facility: AES Westover Generating Station, Town of Union and Village of Johnson City, Broome County, N.Y. (Docket No. 20070902).

Project Applications Approved

The Commission approved the following project applications:

1. Project Sponsor and Facility: Anadarko E&P Company LP (West Branch Susquehanna River), Nippenose Township, Lycoming County, Pa. Renewal of surface water withdrawal of up to 0.720 mgd (peak day) (Docket No. 20090307).

2. Project Sponsor and Facility: Black Bear Waters, LLC (Lycoming Creek), Lewis Township, Lycoming County, Pa. Modification to increase surface water withdrawal by an additional 0.500 mgd (peak day), for a total of 0.900 mgd (peak day) (Docket No. 20120303).

3. Project Sponsor and Facility: Caernarvon Township Authority, Caernarvon Township, Berks County, Pa. Renewal of groundwater withdrawal of up to 0.080 mgd (30-day average) from Well 6 (Docket No. 19820912).

4. Project Sponsor and Facility: Chesapeake Appalachia, LLC (Susquehanna River), Mehoopany Township, Wyoming County, Pa. Renewal of surface water withdrawal of up to 0.999 mgd (peak day) (Docket No. 20080923).

5. Project Sponsor and Facility: Chesapeake Appalachia, LLC (Susquehanna River), Wysox Township, Bradford County, Pa. Renewal of surface water withdrawal of up to 0.999 mgd (peak day) (Docket No. 20080914).

6. Project Sponsor and Facility: Citrus Energy (Susquehanna River), Washington Township, Wyoming County, Pa. Renewal of surface water withdrawal of up to 1.000 mgd (peak day) (Docket No. 20081205).

7. Project Sponsor and Facility: Hydro Recovery-Antrim LP, Duncan Township, Tioga County, Pa. Consumptive water use of up to 1.872 mgd (peak day).

8. Project Sponsor and Facility: Mark Manglaviti & Scott Kresge (Tunkhannock Creek), Tunkhannock Township, Wyoming County, Pa. Surface water withdrawal of up to 0.999 mgd (peak day).

9. Project Sponsor and Facility: Mountain Energy Services, Inc. (Tunkhannock Creek), Tunkhannock Township, Wyoming County, Pa. Modification to increase surface water withdrawal by an additional 0.499 mgd (peak day), for a total of 1.498 mgd (peak day) (Docket No. 20100309).

10. Project Sponsor: Perdue Grain and Oilseed, LLC. Project Facility: Perdue Soybean Crush Plant, Conoy Township, Lancaster County, Pa. Consumptive water use of up to 0.300 mgd (peak day) and groundwater withdrawal of up to 0.028 mgd (30-day average) from Well AP-2.

11. Project Sponsor: R.R. Donnelley & Sons Company. Project Facility: West Plant, City of Lancaster, Lancaster County, Pa. Modification to increase consumptive water use by an additional 0.019 mgd (peak day), for a total of 0.099 mgd (peak day) (Docket No. 19910702).

12. Project Sponsor and Facility: Talisman Energy USA Inc. (Sugar Creek), West Burlington Township, Bradford County, Pa. Renewal of surface water withdrawal of up to 0.750 mgd (peak day) (Docket No. 20090327).

13. Project Sponsor and Facility: Talisman Energy USA Inc. (Towanda Creek—Franklin Township Volunteer Fire Department), Franklin Township, Bradford County, Pa. Renewal of surface water withdrawal of up to 1.000 mgd (peak day) (Docket No. 20081210).

14. Project Sponsor and Facility: Titanium Metals Corporation (TIMET), Caernarvon Township, Berks County, Pa. Modification to increase consumptive water use by an additional 0.044 mgd (peak day), for a total of 0.177 mgd (peak day) (Docket No. 20080616).

15. Project Sponsor and Facility: Ultra Resources, Inc. (Cowanesque River), Deerfield Township, Tioga County, Pa. Renewal of surface water withdrawal of up to 0.217 mgd (peak day) (Docket No. 20081229).

16. Project Sponsor and Facility: Ultra Resources, Inc. (Pine Creek), Pike Township, Potter County, Pa. Renewal of surface water withdrawal of up to 0.936 mgd (peak day) (Docket No. 20090332).

Project Applications Denied

The Commission denied the following application:

1. Project Sponsor and Facility: Galeton Borough Water Authority, Galeton Borough, Potter County, Pa. Application for groundwater withdrawal of up to 0.288 mgd (30-day average) from the Germania Street Well.

Project Applications Tabled

The Commission tabled the following project applications:

1. Project Sponsor and Facility: Chesapeake Appalachia, LLC (Susquehanna River), Athens Township, Bradford County, Pa. Application for renewal of surface water withdrawal of up to 1.440 mgd (peak day) (Docket No. 20080906).

2. Project Sponsor and Facility: Equipment Transport, LLC (Pine Creek), Gaines Township, Tioga County, Pa. Application for surface water withdrawal of up to 0.467 mgd (peak day).

3. Project Sponsor and Facility: Houtzdale Municipal Authority (Beccaria Springs), Gulich Township, Clearfield County, Pa. Application for surface water withdrawal of up to 5.000 mgd (peak day).

4. Project Sponsor and Facility: WPX Energy Appalachia, LLC (Susquehanna River), Great Bend Township, Susquehanna County, Pa. Application for renewal of surface water withdrawal of up to 1.000 mgd (peak day) (Docket No. 20090303).

Authority: Pub. L. 91-575, 84 Stat. 1509 et seq., 18 CFR Parts 806, 807, and 808.

Dated: April 9, 2013.
Thomas W. Beauduy,
Deputy Executive Director.

[FR Doc. 2013-08991 Filed 4-16-13; 8:45 am]

BILLING CODE 7040-01-P